DEPARTMENT OF HOUSING AND URBAN DEVELOPMENT

[Docket No. FR-7080-N-29]

30-Day Notice of Proposed Information Collection: Stepped and Tiered Rent Demonstration Evaluation OMB Control No.: 2528-0339

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 2, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov. telephone (202)-402-5535. This is not a toll-free number, HUD welcomes and is prepared to receive calls from individuals who are deaf or hard of hearing, as well as individuals with speech or communication disabilities. To learn more about how to make an accessible telephone call, please visit: https://www.fcc.gov/consumers/guides/telecommunications-relay-service-trs. Copies of available documents submitted to OMB may be obtained from Ms. Guido.

SUPPLEMENTARY INFORMATION: This notice informs the public that HUD is seeking approval from OMB for the information collection described in Section A.

The Federal Register notice that solicited public comment on the information collection for a period of 60 days was published on March 12, 2024 at 89 FR 17862.

A. Overview of Information Collection

Title of Information Collection: Cohort 2 Stepped and Tiered Rent Demonstration Evaluation.

OMB Approval Number: 2528-0339.

Type of Request: Revision of a currently approved collection.

Form Number: N/A.

Description of the need for the information and proposed use: HUD has selected 10 Public Housing Agencies (PHAs) to participate in the second cohort of the Moving to Work (MTW) Expansion, Stepped and Tiered Rent Demonstration (STRD). These PHAs will implement an alternative rent policy (a stepped rent or tiered rent) that is intended to reduce PHA administrative burden and increase self-sufficiency of assisted households. Five PHAs will implement a stepped rent and five PHAs will implement a tiered rent. HUD's Office of Policy Development and Research (PD&R) will evaluate the impacts of those alternative rent policies, using a randomized controlled trial. The evaluation will rely on data from a variety of sources, including new information collection efforts proposed in this Notice. HUD has contracted with MDRC to conduct the first phase of the evaluation, including random assignment, baseline data collection, and monitoring PHA implementation.

Within the 10 participating PHAs, eligible households will be randomly assigned to have their rent calculated under the new rules (stepped/tiered rent) or old rules (the Brooke rent, typically 30% of household income). Eligible households will be non-elderly, non-disabled participants in the public housing and housing choice voucher program. Prior to random assignment, each household will be asked to complete a baseline information form (BIF), review the informed consent form, and provide informed consent to authorize HUD's evaluator to use their data for the evaluation. The BIF will provide important information not otherwise available from HUD's administrative data, such as whether the household has significant barriers to employment. The BIF will average approximately 7 minutes long and reviewing the consent form is expected to take approximately 11 minutes.

MDRC will also conduct interviews with staff from participating PHAs, to better understand their experience implementing the new rent policies. For the first phase of the evaluation, MDRC is expected to conduct two rounds of staff interviews with each PHA. During the first round, MDRC expects to interview up to ten staff per PHA (reflecting a mix of executive management staff, public housing and HCV directors, and public housing and HCV specialists). The second round will focus on staff most directly involved with implementing the new rent policies (public housing and HCV directors and/or managers, and public housing and HCV specialists). The mode in Round 1will be a mix of one-on-one interviews and group interviews, with small groups of 2-3 staff performing similar roles. The mode in Round 2 will be group interviews, with groups of 2-4 staff performing similar roles.

MDRC will collect data extracts that will include a small subset of data elements captured by the PHAs exclusively for the demonstration, called the “Rent Policy Implementation Data Tracking Tool.” MDRC will collect these data fields along with MTW Expansion 50058 data, which is collected under OMB control number 2577-0083, directly from PHAs during the early implementation period to ensure that the new rent rules are being implemented correctly and throughout the demonstration to track hardship requests and collect updated contact information for ongoing communications and reminders about the demonstration and for potential follow-up surveys.

Exhibit A—Total Estimated Burden
[Note: Rows 1 through 8 are unchanged from the previously approved ICR. Rows 9 and 10 are being added with this ICR modification]
Information collection | Number of respondents | Frequency of response | Responses per annum | Burden hour per response | Annual burden hours | Hourly cost per response | Annual cost
Baseline Information Form (household survey) | 24,000 | 1 | 24,000 | .12 | 2,880 | $9.43 | $27,158.40
Stepped Rent Informed Consent Form | 7,000 | 1 | 7,000 | .18 | 1,260 | 9.43 | 11,881.80
Tiered Rent Informed Consent Form | 17,000 | 1 | 17,000 | .18 | 3,060 | 9.43 | 28,855.80
PHA Executive Director Interviews (Round 1) | 10 | 1 | 10 | .75 | 7.5 | 59.86 | 448.95
PHA Program Director Interviews (Round 1) | 20 | 1 | 20 | 1.5 | 30 | 44.24 | 1,327.20
PHA MTW Coordinator Interviews (Round 1) | 10 | 1 | 10 | .75 | 7.5 | 44.24 | 331.80
PHA Housing Specialist Interviews (Round 1) | 60 | 1 | 60 | 1.5 | 90 | 25.64 | 2,307.60
Rent Policy Implementation Data Tracking Tool | 10 | 1 | 10 | 9 | 90 | 25.64 | 2,307.60
PHA Managers/Supervisors/Policy Informants Interview Guide (Round 2) | 40 | 1 | 40 | 1.5 | 60 | 46.83 | 2,809.80
Housing Specialist and Property Manager Interview Guide (Round 2) | 80 | 1 | 80 | 1.5 | 120 | 27.00 | 3,240.00
Total | 48,230 |  |  |  | 7,605 |  | 80,668.95

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

Anna P. Guido,
Department Reports Management Office, Office of Policy Development and Research, Chief Data Officer.

[FR Doc. 2024-14624 Filed 7-2-24; 8:45 am]

BILLING CODE 4210-67-P